DEPARTMENT OF ENERGY

Federal Energy Regulatory Commission

Combined Notice of Filings #1

Take notice that the Commission received the following electric corporate filings:

Docket Numbers: EC25-102-000.

Applicants: NRG East Generation Holdings LLC, NRG Demand Response Holdings LLC, Lightning Power, LLC, Enerwise Global Technologies, LLC dba CPower.

Description: Response to 06/12/2025, Joint Application for Authorization Under Section 203 of the Federal Power Act of NRG East Generation Holdings LLC, et al.

Filed Date: 9/2/25.

Accession Number: 20250902-5205.

Comment Date: 5 p.m. ET 9/23/25.

Take notice that the Commission received the following exempt wholesale generator filings:

Docket Numbers: EG25-513-000.

Applicants: Pineview, LLC.

Description: Pineview, LLC submits Notice of Self-Certification of Exempt Wholesale Generator Status.

Filed Date: 9/3/25.

Accession Number: 20250903-5034.

Comment Date: 5 p.m. ET 9/24/25.

Docket Numbers: EG25-514-000.

Applicants: Mulqueeney Wind Energy LLC.

Description: Mulqueeney Wind Energy LLC submits Notice of Self-Certification of Exempt Wholesale Generator Status.

Filed Date: 9/3/25.

Accession Number: 20250903-5040.

Comment Date: 5 p.m. ET 9/24/25.

Take notice that the Commission received the following Complaints and Compliance filings in EL Dockets:

Docket Numbers: EL25-112-000.

Applicants: Trans-Allegheny Interstate Line Company.

Description: Petition for Declaratory Order of Trans-Allegheny Interstate Line Company.

Filed Date: 8/28/25.

Accession Number: 20250828-5287.

Comment Date: 5 p.m. ET 9/29/25.

Take notice that the Commission received the following electric rate filings:

Docket Numbers: ER10-1936-010.

Applicants: Carville Energy LLC.

Description: Supplement to 07/01/2024, Triennial Market Power Analysis for Central Region of Carville Energy LLC.

Filed Date: 8/27/25.

Accession Number: 20250827-5189.

Comment Date: 5 p.m. ET 9/17/25.

Docket Numbers: ER10-2475-035; ER10-2475-036; ER10-2474-034; ER10-2474-035; ER10-3246-028; ER10-3246-029; ER11-4666-008; ER11-4666-009; ER11-4667-008; ER11-4667-009; ER12-295-007; ER12-295-008; ER24-1587-003; ER24-1587-004; ER22-1385-014; ER22-1385-015; ER23-676-010; ER23-676-011; ER23-674-010; ER23-674-011; ER13-1266-054; ER13-1266-055; ER15-2211-051; ER15-2211-052; ER10-1521-020; ER10-1521-021; ER10-1520-020; ER10-1520-021.

Applicants: Occidental Power Services, Inc., Occidental Power Marketing, L.P., MidAmerican Energy Services, LLC, CalEnergy, LLC, BHE Wind Watch, LLC, BHE Power Watch, LLC, BHER Market Operations, LLC., AlbertaEx, L.P., NaturEner Rim Rock Wind Energy, LLC, NaturEner Glacier Wind Energy 2, LLC, NaturEner Glacier Wind Energy 1, LLC, PacifiCorp, Sierra Pacific Power Company, Nevada Power Company.

Description: Supplement to 01/31/2025, and 04/30/2025, Notice of Non-Material Change in Status of Nevada Power Company, et al.

Filed Date: 9/3/25.

Accession Number: 20250903-5078.

Comment Date: 5 p.m. ET 9/24/25.

Docket Numbers: ER21-2818-012.

Applicants: Tri-State Generation and Transmission Association, Inc.

Description: Compliance filing: Revisions to Rate Schedule No. 281 in Compliance with the August 4 Order to be effective 11/1/2021.

Filed Date: 9/3/25.

Accession Number: 20250903-5106.

Comment Date: 5 p.m. ET 9/24/25.

Docket Numbers: ER24-2938-002.

Applicants: Sierra Pinta Energy Storage, LLC.

Description: Notice of Non-Material Change in Status of Sierra Pinta Energy Storage, LLC.

Filed Date: 9/2/25.

Accession Number: 20250902-5202.

Comment Date: 5 p.m. ET 9/23/25.

Docket Numbers: ER25-1839-001; ER25-2368-001; EL25-95-001.

Applicants: Michigan Public Power Agency v. Michigan Electric Transmission Company, LLC, Michigan Electric Transmission Company LLC, Michigan Electric Transmission Company, LLC.

Description: Compliance Filing to August 20, 2025 Order of Michigan Electric Transmission Company, LLC et al.

Filed Date: 8/29/25.

Accession Number: 20250829-5250.

Comment Date: 5 p.m. ET 9/19/25.

Docket Numbers: ER25-2600-001.

Applicants: Midcontinent Independent System Operator, Inc., Duke Energy Indiana, LLC.

Description: Tariff Amendment: Duke Energy Indiana, LLC submits tariff filing per 35.17(b): 2025-09-03_Supplement DEI Proposed Company Specific Temp RE Procure Subsidiary to be effective 12/31/9998.

Filed Date: 9/3/25.

Accession Number: 20250903-5033.

Comment Date: 5 p.m. ET 9/24/25.

Docket Numbers: ER25-2638-001.

Applicants: Midcontinent Independent System Operator, Inc., Ameren Transmission Company of Illinois.

Description: Tariff Amendment: Ameren Transmission Company of Illinois submits tariff filing per 35.17(b): 2025-09-03_SA 4509 ATXI-AEC-MEC-Sikeston Sub Orig TIA to be effective 6/6/2025.

Filed Date: 9/3/25.

Accession Number: 20250903-5043.

Comment Date: 5 p.m. ET 9/24/25.

Docket Numbers: ER25-3357-000.

Applicants: Southwest Power Pool, Inc.

Description: § 205(d) Rate Filing: 4457 Platteview Solar GIA/Cancellation of 3949R1 InterimGIA to be effective 8/18/2025.

Filed Date: 9/3/25.

Accession Number: 20250903-5030.

Comment Date: 5 p.m. ET 9/24/25.

Docket Numbers: ER25-3358-000; TS25-3-000.

Applicants: Redfield PV I, LLC, Redfield PV I, LLC.

Description: Request for Temporary Waiver, et al. of Redfield PV I, LLC.

Filed Date: 9/2/25.

Accession Number: 20250902-5201.

Comment Date: 5 p.m. ET 9/23/25.

Docket Numbers: ER25-3359-000.

Applicants: Public Service Company of New Hampshire.

Description: Tariff Amendment: Cancellation of Wok, LLC Interconnection Study Agreement to be effective 9/4/2025.

Filed Date: 9/3/25.

Accession Number: 20250903-5053.

Comment Date: 5 p.m. ET 9/24/25.

Docket Numbers: ER25-3360-000.

Applicants: AL Solar H, LLC.

Description: § 205(d) Rate Filing: AL Solar H MBR Application Filing to be effective 11/3/2025.

Filed Date: 9/3/25.

Accession Number: 20250903-5055.

Comment Date: 5 p.m. ET 9/24/25.

Docket Numbers: ER25-3361-000.

Applicants: New York Independent System Operator, Inc.

Description: § 205(d) Rate Filing: NYISO 205: Revisions to Establish Rules for NYTOs to Exercise Federal ROFR to be effective 11/3/2025.

Filed Date: 9/3/25.

Accession Number: 20250903-5086.

Comment Date: 5 p.m. ET 9/24/25.

Docket Numbers: ER25-3362-000.

Applicants: Alabama Power Company, Georgia Power Company, Mississippi Power Company.

Description: Initial rate filing: Alabama Power Company submits tariff filing per 35.12: Bogalusa West Solar Project Affected System Upgrade Agreement Filing to be effective 5/31/2025.

Filed Date: 9/3/25.

Accession Number: 20250903-5100.

Comment Date: 5 p.m. ET 9/24/25.

Docket Numbers: ER25-3363-000.

Applicants: Georgia Power Company.

Description: Initial rate filing: Bogalusa West Affected System Upgrade Agreement Concurrence Filing to be effective 5/31/2025.

Filed Date: 9/3/25.

Accession Number: 20250903-5101.

Comment Date: 5 p.m. ET 9/24/25.

Docket Numbers: ER25-3364-000.

Applicants: Mississippi Power Company.

Description: Initial rate filing: Bogalusa West Affected System Upgrade Agreement Concurrence Filing to be effective 5/31/2025.

Filed Date: 9/3/25.

Accession Number: 20250903-5103.

Comment Date: 5 p.m. ET 9/24/25.

Docket Numbers: ER25-3365-000.

Applicants: MidAmerican Energy Company, Cordova Energy Company LLC.

Description: § 205(d) Rate Filing: Cordova Energy Company LLC submits tariff filing per 35.13(a)(2)(iii: Application for Affiliate Capacity Purchase Agreement to be effective 11/3/2025.

Filed Date: 9/3/25.

Accession Number: 20250903-5116.

Comment Date: 5 p.m. ET 9/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 3, 2025.
Debbie-Anne A. Reese,
Secretary.

[FR Doc. 2025-17232 Filed 9-8-25; 8:45 am]

BILLING CODE 6717-01-P